DEPARTMENT OF COMMERCE

National Oceanic and Atmospheric Administration

[RTID 0648-XA434]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a two-day public virtual meeting to address the items contained in the tentative agenda included in the SUPPLEMENTARY INFORMATION.

DATES: The public virtual meeting will be held on September 16, 2020, from 10 a.m. to 5 p.m., and September 17, 2020, from 10 a.m. to 3 p.m. All meetings will be at Eastern Standard Time.

ADDRESSES: You may join the SSC public virtual meeting (via GoToMeeting) from a computer, tablet or smartphone by entering the following address:

Please join the meeting from your computer, tablet or smartphone. https://global.gotomeeting.com/join/493085277

You can also dial in using your phone.

United States: +1 (646) 749-3122

Access Code: 493-085-277

Join from a video-conferencing room or system.

Dial in or type: 67.217.95.2 or inroomlink.goto.com

Meeting ID: 493 085 277.

Or dial directly: 493085277@67.217.95.2 or 67.217.95.2##493085277.

If you are new to GoToMeeting? Get the app now and be ready when the meeting starts: https://global.gotomeeting.com/install/493085277.

In case there are problems with GoToMeeting:

Join with Google Meet: meet.google.com/dit-cpex-tnp

FOR FURTHER INFORMATION CONTACT: Graciela García-Moliner, Caribbean Fishery Management Council, 270 Muñoz Rivera Avenue, Suite 401, San Juan, Puerto Rico 00918-1903, telephone: (787) 403-8337.

SUPPLEMENTARY INFORMATION: The following items included in the tentative agenda will be discussed:

September 16, 2020

10 a.m.—12:30 p.m.

—Call to Order

—Adoption of Agenda

—Update Spiny Lobster Acceptable Biological Catch

—Overview SSC's Ecosystem Conceptual Model work to date

—Connections from sub-model to sub-model in the Ecosystem Conceptual Model

12:30 p.m.—1:30 p.m.

—Lunch

1:30 p.m.—3 p.m.

—Review Ecosystem Conceptual Model

3 p.m.—3:15 p.m.

—Break

3:15 p.m.—5 p.m.

—Finalize Ecosystem Conceptual Model

September 17, 2020

10 a.m.—12 p.m.

Finalize SSC's Ecosystem Conceptual Models

12 p.m.—1 p.m.

—Lunch Break

1 p.m.—3 p.m.

—Recommendation to Caribbean Fishery Management Council

—Other Business

—Adjourn

The order of business may be adjusted as necessary to accommodate the completion of agenda items. The meeting will begin on September 16, 2020, at 10 a.m. EST, and will end on September 17, 2020, at 3 p.m. EST. Other than the start time, interested parties should be aware that discussions may start earlier or later than indicated, at the discretion of the Chair. In addition, the meeting may be completed prior to the date established in this notice.

Special Accommodations

Simultaneous interpretation will be provided. To receive interpretation in Spanish you can dial into the meeting as follows:

US/Canada: call +1-888-947-3988, when system answers, enter 1*999996#. Para interpretación en inglés marcar:

US/Canada: call +1-888-947-3988, cuando el sistema conteste, entrar el siguiente número 2*999996#.

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: August 27, 2020.
Rey Israel Marquez,
Acting Deputy Director, Office of Sustainable Fisheries, National Marine Fisheries Service.

[FR Doc. 2020-19279 Filed 8-31-20; 8:45 am]

BILLING CODE 3510-22-P